DEPARTMENT OF TRANSPORTATION

Federal Aviation Administration

14 CFR Part 71

[Airspace Docket No. 02-AEA-13]

Establishment of Class D Airspace; Rome, NY

AGENCY: Federal Aviation Administration (FAA), DOT.

ACTION: Final rule; delay of effective date.

SUMMARY: This corrective action changes the effective date for the establishment of the Class D airspace area at Rome, NY. The proposed commissioning date for the Airport Traffic Control Tower (ATCT) has been delayed; therefore, the effective date of the establishment of the Class D airspace must also be delayed.

EFFECTIVE DATE: 0901 UTC May 15, 2003

FOR FURTHER INFORMATION CONTACT: Mr. Francis Jordan, Airspace Specialist, Airspace Branch, AEA-520, Air Traffic Division, Eastern Region, Federal Aviation Administration, 1 Aviation Plaza, Jamaica, New York 11434-4809, telephone: (718) 553-4521.

SUPPLEMENTARY INFORMATION:

History

Federal Register Document 02-29902, Airspace Docket No. 02-AEA-13, published in the Federal Register on November 25, 2002 (67 FR 70533-70534), established the description of the Class D airspace area at Rome, NY. This action was originally scheduled to become effective on March 20, 2003; however, a delay in the commissioning of the ATCT has required the effective date of this action to be delayed until May 15, 2003.

Accordingly, pursuant to the authority delegated to me, the effective date for the Class D airspace area at Rome, NY as published in the Federal Register on November 25, 2002 (67 FR 70533-70534), (Federal Register Document) is corrected as follows:

PART 71—[CORRECTED]

Airspace, Incorporation by reference, Navigation (air).

Delay of Effective Date

The effective date on Airspace Docket No. 02-AEA-13 is hereby delayed from March 20, 2003 to May 15, 2003

Authority: 49 U.S.C. 106(g), 40103, 40113, 40120; E.O. 10854, 24 FR 9565, 3 CFR, 1959-1963 Comp., p. 389.

Issued in Jamaica, New York on February 21, 2003.
Richard J. Ducharme,
Acting Manager, Air Traffic Division, Eastern Region.

[FR Doc. 03-6333 Filed 3-14-03; 8:45 am]

BILLING CODE 4910-13-M